DEPARTMENT OF HOMELAND SECURITY

Federal Emergency Management Agency

[Docket ID: FEMA-2009-0001]

Agency Information Collection Activities: Proposed Collection; Comment Request, 1660-NEW; FEMA Preparedness Grants: Port Security Grant Program (PSGP)

AGENCY: Federal Emergency Management Agency, DHS.

ACTION: Notice; 60-day notice and request for comments; new information collection; OMB No. 1660-NEW; FEMA Form 089-5, PSGP Investment Justification; FEMA Form 089-21, Ferry Investment Justification.

SUMMARY: The Federal Emergency Management Agency, as part of its continuing effort to reduce paperwork and respondent burden, invites the general public and other Federal agencies to take this opportunity to comment on a proposed new information collection. In accordance with the Paperwork Reduction Act of 1995, this Notice seeks comments concerning the information collection activities required to administer the Port Security Grant Program.

DATES: Comments must be submitted on or before January 19, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Alex Mrazik, Program Analyst, Grants Program Directorate, 202-786-9732 for additional information. You may contact the Records Management Branch for copies of the proposed collection of information at facsimile number (202) 646-3347 or e-mail address: FEMA-Information-Collections@dhs.gov.

SUPPLEMENTARY INFORMATION: The Port Security Grants Program (PSGP) provides grant funding to port areas for the protection of critical port infrastructure from terrorism. PSGP funds are primarily intended to assist ports in enhancing maritime domain awareness, enhancing risk management capabilities to prevent, detect, respond to and recover from attacks involving improvised explosive devices (IEDs), weapons of mass destruction (WMDs), and other non-conventional weapons, as well as training and exercises and Transportation Worker Identification Credential (TWIC) implementation. Section 102 of the Maritime Transportation Security Act of 2002, as amended (46 U.S.C. 70107), established the PSGP to provide for the establishment of a grant program for making a fair and equitable allocation of funds to implement Area Maritime Transportation Security Plans and facility security plans among port authorities, facility operators, and State and local government agencies required to provide port security services.

Collection of Information

Title: FEMA Preparedness Grants: Port Security Grant Program (PSGP).

Type of Information Collection: New information collection.

OMB Number: 1660-NEW.

Form Titles and Numbers: FEMA Form 089-5, PSGP Investment Justification;

FEMA Form 089-21, Ferry Investment Justification.

Abstract: The PSGP is an important tool among a comprehensive set of measures to help strengthen the Nation against risks associated with potential terrorist attacks. DHS/FEMA uses the information to evaluate applicants' familiarity with the national preparedness architecture and identify how elements of this architecture have been incorporated into regional/state/local planning, operations, and investments.

Affected Public: State, Local or Tribal Government.

Estimated Total Annual Burden Hours: 8,520 hours.

Type of respondent | Form name/form number | No. of respondents | No. of responses per respondent | Avg. burden per response (in hours) | Total annual burden (in hours) | Avg. hourly wage rate | Total annual respondent cost
State, Local or Tribal Government | PSGP Investment Justification/FEMA Form 089-5 | 235 | 1 | 16 | 3,760 | $33.60 | $126,336
State, Local or Tribal Government | Ferry Investment Justification/FEMA Form 089-21 | 5 | 1 | 16 | 80 | 33.60 | 2,688
State, Local or Tribal Government | Concept of Operations (CONOPS) | 55 | 1 | 4 | 220 | 33.60 | 7,392
State, Local or Tribal Government | Port-Wide Risk Management/Mitigation Plan (PWRMP) | 55 | 1 | 80 | 4,400 | 37.80 | 166,320
State, Local or Tribal Government | PSGP—Memorandum of Understanding (MOU) or Memorandum of Agreement (MOA) | 30 | 1 | 2 | 60 | 37.80 | 2,268
Total |  | 380 |  |  | 8,520 |  | 305,004.00

Estimated Cost: There is no annual reporting or recordkeeping costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27558 Filed 11-16-09; 8:45 am]

BILLING CODE 9111-78-P